DEPARTMENT OF TRANSPORTATION

Federal Aviation Administration

14 CFR Part 39

[Docket No. FAA-2020-0339; Product Identifier 2020-NM-046-AD; Amendment 39-21281; AD 2020-21-08]

RIN 2120-AA64

Airworthiness Directives; Airbus SAS Airplanes

AGENCY: Federal Aviation Administration (FAA), Department of Transportation (DOT).

ACTION: Final rule.

SUMMARY: The FAA is adopting a new airworthiness directive (AD) for all Airbus SAS Model A350-941 airplanes. This AD was prompted by reports that the latches for the forward and aft pressure relief doors could be opened during exposure to fire, leading to a breach in the engine core firewall. This AD requires modification and re-identification of the affected thrust reversers (TRs) and latch access doors (LADs), as specified in a European Union Aviation Safety Agency (EASA) AD, which is incorporated by reference. The FAA is issuing this AD to address the unsafe condition on these products.

DATES: This AD is effective November 18, 2020. The Director of the Federal Register approved the incorporation by reference of a certain publication listed in this AD as of November 18, 2020.

ADDRESSES: For material incorporated by reference (IBR) in this AD, contact the EASA, Konrad-Adenauer-Ufer 3, 50668 Cologne, Germany; telephone +49 221 8999 000; email ADs@easa.europa.eu; internet www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-0339.

Examining the AD Docket

You may examine the AD docket on the internet at https://www.regulations.gov by searching for and locating Docket No. FAA-2020-0339; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Kathleen Arrigotti, Aerospace Engineer, Large Aircraft Section, International Validation Branch, FAA, 2200 South 216th St., Des Moines, WA 98198; telephone and fax 206-231-3218; email kathleen.arrigotti@faa.gov.

SUPPLEMENTARY INFORMATION:

Discussion

The EASA, which is the Technical Agent for the Member States of the European Union, has issued EASA AD 2020-0060, dated March 16, 2020 (“EASA AD 2020-0060”) (also referred to as the Mandatory Continuing Airworthiness Information, or “the MCAI”), to correct an unsafe condition for all Airbus SAS Model A350-941 airplanes.

The FAA issued a notice of proposed rulemaking (NPRM) to amend 14 CFR part 39 by adding an AD that would apply to all Airbus SAS Model A350-941 airplanes. The NPRM published in the Federal Register on April 27, 2020 (85 FR 23252). The NPRM was prompted by reports that the latches for the forward and aft pressure relief doors could be opened during exposure to fire, leading to a breach in the engine core firewall. The NPRM proposed to require modification and re-identification of the affected thrust TRs and LADs, as specified in EASA AD 2020-0060. The FAA is issuing this AD to address a possible breach in the engine core firewall. This condition, if not corrected, could lead to an uncontained engine fire, possibly resulting in reduced control of the airplane. See the MCAI for additional background information.

Comments

The FAA gave the public the opportunity to participate in developing this final rule. The following presents the comments received on the NPRM and the FAA's response to each comment.

Support for the NPRM

Air Line Pilots Association, International (ALPA), stated its support for the NPRM.

Request To Clarify Marking Requirement

Delta Air Lines (DAL) requested that the word “it” in paragraph (h)(2) of the proposed AD be replaced with “the LAD” to indicate the latch access door. The commenter asserted that the meaning of the word “it” in that paragraph is vague and should be clarified.

The FAA partially agrees with the request to modify paragraph (h)(2) of this AD. The agency agrees that the word “it” in that paragraph can be interpreted in more than one way, and not only as a reference to the LAD. Since paragraph (h)(2) references the TR and the LAD, to avoid confusion over the meaning, the FAA has removed the word “it” from paragraph (h)(2) of this AD.

Request To Allow Alternative Marking Method

Delta requested that an exception be added to the proposed AD stating that operators may apply markings to the LAD composite substrate by any convenient means, as long as the markings remain within 1 inch of the identification decal. The commenter expressed concern that the use of the term “stamp,” as specified in the service information referenced in EASA AD 2020-0060, could suggest that a stamping tool is required.

The FAA partially agrees with the request. The FAA agrees to clarify the use of the word “stamp” in this AD. The terms “marked” and “stamped” as used in this AD refer to any method of permanent marking, including stamping or ink marking as acceptable. The FAA has revised paragraph (h)(2) of this AD to clarify that any permanent marking method is acceptable.

Request To Explain Why an AD Is Appropriate

Delta requested a change to the wording of paragraph (e) of the proposed AD. Delta argued that the current paragraph is not descriptive enough to fully explain airworthiness shortcomings and why an AD is appropriate. Delta provided suggested additional wording for paragraph (e) of the proposed AD.

The FAA disagrees with this request. Based on the risk assessment performed by EASA and Airbus, the FAA determined that an unsafe condition exists, and provided relevant background information in the NPRM. The wording of paragraph (e) has not been changed with regard to this request.

Request To Eliminate Adhesive Cure Time Requirement

Delta requested that the cure time of the placard adhesive not be required for compliance because it has nothing to do with the unsafe condition being addressed by the proposed AD. Delta noted that the service information referenced in EASA AD 2020-0060 includes a requirement to allow curing the adhesive, and requested that the FAA add an exception to exclude this requirement.

The FAA does not agree with this request. Because placards contain vital information, proper adhesive curing times are essential and should not be removed from the requirements of this AD, although requests for alternative methods of compliance (AMOCs) remain an option for all operators. This AD has not been changed in this regard.

Request To Change Compliance Time

The FAA infers a request by DAL to extend the compliance time indicated in the proposed AD. The commenter asserted that the 3-month compliance time is too short and that no evidence has been given for this urgency.

The FAA disagrees with the request to increase the compliance time of this AD. Prior to publication of EASA AD 2020-0060, the manufacturer offered 2 years to address the unsafe condition as part of a monitored retrofit campaign. In developing an appropriate compliance time for this action, EASA considered the urgency associated with the subject unsafe condition, and the encouraged voluntarily compliance through the monitored retrofit campaign as that would be most convenient for the operator's normal scheduled maintenance. The FAA's NPRM provided additional time for U.S. operators to plan and execute corrective actions beyond EASA's compliance time. The FAA believes the 2-year campaign, followed by publication of the EASA AD, followed by the intervening time for the FAA to publish the NPRM and this AD, has allowed sufficient notice and planning opportunities for the U.S. fleet. This AD has not been changed with regard to this request.

Conclusion

The FAA reviewed the relevant data, considered the comments received, and determined that air safety and the public interest require adopting this final rule with the changes described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related IBR Material Under 1 CFR Part 51

EASA AD 2020-0060 describes procedures for modification and re-identification of the affected TRs and LADs. This material is reasonably available because the interested parties have access to it through their normal course of business or by the means identified in the ADDRESSES section.

Costs of Compliance

The FAA estimates that this AD affects 3 airplanes of U.S. registry. The FAA estimates the following costs to comply with this AD:

Estimated Costs for Required Actions
Labor cost | Parts cost | Cost per product | Cost on U.S. operators
18 work-hours × $85 per hour = $1,530 | * $0 | $1,530 | $4,590
* The FAA has received no definitive data that would enable the agency to provide a parts cost estimate for the required actions.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-21-08 Airbus SAS: Amendment 39-21281; Docket No. FAA-2020-0339; Product Identifier 2020-NM-046-AD.

(a) Effective Date

This AD is effective November 18, 2020.

(b) Affected ADs

None.

(c) Applicability

This AD applies to all Airbus SAS Model A350-941 airplanes, certificated in any category.

(d) Subject

Air Transport Association (ATA) of America Code 78, Exhaust.

(e) Reason

This AD was prompted by reports that the latches for the forward and aft pressure relief doors could be opened during exposure to fire, leading to a breach in the engine core firewall. The FAA is issuing this AD to address this condition, which if not corrected, could lead to an uncontained engine fire, possibly resulting in reduced control of the airplane.

(f) Compliance

Comply with this AD within the compliance times specified, unless already done.

(g) Requirements

Except as specified in paragraph (h) of this AD: Comply with all required actions and compliance times specified in, and in accordance with, European Union Aviation Safety Agency (EASA) AD 2020-0060, dated March 16, 2020 (“EASA AD 2020-0060”).

(h) Exceptions to EASA AD 2020-0060

(1) Where EASA AD 2020-0060 refers to its effective date, this AD requires using the effective date of this AD.

(2) Where paragraph (1.3) of EASA AD 2020-0060 requires marking the service bulletin reference on the identification plate of the affected thrust reverser (TR) or latch access door (LAD), this AD allows marking on or within an inch of the identification plate or decal. For this AD, any method of permanent marking, including stamping or ink marking, is acceptable.

(3) The “Remarks” section of EASA AD 2020-0060 does not apply to this AD.

(i) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or local Flight Standards District Office, as appropriate. If sending information directly to the Large Aircraft Section, International Validation Branch, send it to the attention of the person identified in paragraph (j) of this AD. Information may be emailed to: 9-AVS-AIR-730-AMOC@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): For any service information referenced in EASA AD 2020-0060 that contains RC procedures and tests: Except as required by paragraph (i)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

For more information about this AD, contact Kathleen Arrigotti, Aerospace Engineer, Large Aircraft Section, International Validation Branch, FAA, 2200 South 216th St., Des Moines, WA 98198; telephone and fax 206-231-3218; email kathleen.arrigotti@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2020-0060, dated March 16, 2020.

(ii) [Reserved]

(3) For EASA AD 2020-0060, contact the EASA, Konrad-Adenauer-Ufer 3, 50668 Cologne, Germany; telephone +49 221 8999 000; email ADs@easa.europa.eu; internet www.easa.europa.eu. You may find this EASA AD on the EASA website at https://ad.easa.europa.eu.

(4) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-0339.

(5) You may view this material that is incorporated by reference at the National Archives and Records Administration (NARA). For information on the availability of this material at NARA, email fedreg.legal@nara.gov, or go to: https://www.archives.gov/federal-register/cfr/ibr-locations.html.

Issued on October 1, 2020.
Lance T. Gant,
Director, Compliance & Airworthiness Division, Aircraft Certification Service.

[FR Doc. 2020-22623 Filed 10-13-20; 8:45 am]

BILLING CODE 4910-13-P